NATIONAL HIGHWAY TRAFFIC SAFETY ADMINISTRATION

[Docket No. NHTSA-2004-16932]

Plan for Evaluating the Effectiveness of Vehicle and Behavioral Programs, Calendar Years 2004-2007

AGENCY: National Highway Traffic Safety Administration (NHTSA), Department of Transportation.

ACTION: Request for comments.

SUMMARY: This notice announces the publication by NHTSA of its Evaluation Program Plan for Calendar Years 2004-2007. The report describes the agency's ongoing and planned evaluations of its existing Federal Motor Vehicle Safety Standards [49 CFR part 571] and other vehicle-safety, behavioral-safety and consumer programs. It also summarizes the results of completed evaluations. The agency's evaluation program responds to Executive Order 12866, which provides for Government-wide review of existing significant Federal regulations. This notice solicits public review and comment on the evaluation plan. Comments received will be used to improve the plan.

DATES: Comments must be received no later than May 26, 2004.

ADDRESSES: Report: The Evaluation Program Plan is available on the Internet for viewing on line in HTML format at http://www.nhtsa.dot.gov/cars/rules/regrev/evaluate/809699.html and in PDF format at http://www.nhtsa.dot.gov/cars/rules/regrev/evaluate/pdf/809699.pdf. You may obtain a copy of the plan free of charge by sending a self-addressed mailing label to Charles J. Kahane (NPO-321), National Highway Traffic Safety Administration, 400 Seventh Street, SW., Washington, DC 20590.

Comments: You may submit comments [identified by DOT DMS Docket Number NHTSA-2004-16932] by any of the following methods:

• Web Site: http://dms.dot.gov. Follow the instructions for submitting comments on the DOT electronic docket site.

• Fax: (202) 493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

You may call Docket Management at (202) 366-9324 and visit the Docket from 10 a.m. to 5 p.m., Monday through Friday.

FOR FURTHER INFORMATION CONTACT: Charles J. Kahane, Chief, Evaluation Division, NPO-321, Office of Planning, Evaluation and Budget, National Highway Traffic Safety Administration, Room 5208, 400 Seventh Street, SW., Washington, DC 20590. Telephone: (202) 366-2560. Fax: (202) 366-2559. E-mail: ckahane@nhtsa.dot.gov.

For information about NHTSA's evaluations of the effectiveness of existing regulations and programs: Visit the NHTSA Web site at http://www.nhtsa.dot.gov and click “Regulations & Standards” underneath “Car Safety” on the home page; then click “Regulatory Evaluation” on the “Regulations & Standards” page.

SUPPLEMENTARY INFORMATION: NHTSA has rigorously evaluated its major programs as a matter of policy since 1970. The evaluation of the effectiveness of the Federal Motor Vehicle Safety Standards (FMVSS) began in 1975. The Government Performance and Results Act of 1993 and Executive Order 12866, “Regulatory Planning and Review,” issued in October 1993 (58 FR 51735), now oblige all Federal agencies to evaluate their existing programs and regulations. Previously, Executive Order 12291, issued in February 1981 (46 FR 13193), also required reviews of existing regulations. Even before 1981, however, NHTSA was a leader among Federal agencies in evaluating the effectiveness of existing regulations and technologies. There are large databases of motor vehicle crashes that can be analyzed to find out what vehicle and behavioral safety programs work best.

This four-year plan presents and discusses the vehicle and behavioral programs, regulations, technologies and related areas NHTSA proposes to evaluate, and it summarizes the findings of past evaluations. Depending on scope, evaluations typically take a year or substantially more, counting initial planning, contracting for support, OMB clearance for surveys, data collection, analysis, internal review, approvals, publication, review of public comments, and the last phase of preparing recommendations for subsequent agency action.

Most of NHTSA's crashworthiness and several crash avoidance standards have been evaluated at least once since 1975. A number of consumer-oriented regulations, e.g., bumpers, theft protection, fuel economy and NCAP also have been evaluated. So have promising safety technologies that were not mandatory under Federal regulations, such as antilock brake systems for passenger vehicles. The plan for calendar years 2004-2007 includes evaluations of new and existing vehicle and behavioral safety programs, regulations, technologies and consumer information programs.

The plan will be periodically updated in response to public and agency needs, with a complete revision scheduled every five years. The most recent plan before this one was published on May 8, 1998 (63 FR 25543).

How Can I Influence NHTSA's Thinking on This Subject?

NHTSA welcomes public review of the evaluation plan and invites the reviewers to comment about the selection, priority, and schedule of the regulations to be evaluated. The agency is interested in learning of any additional data that may be useful in the evaluations. NHTSA will submit to the Docket a response to the comments and, if appropriate, will supplement or revise the evaluation plan.

How Do I Prepare and Submit Comments?

Your comments must be written and in English. To ensure that your comments are correctly filed in the Docket, please include the Docket number of this document (NHTSA-2004-16932) in your comments.

Your primary comments must not be more than 15 pages long (49 CFR 553.21). However, you may attach additional documents to your primary comments. There is no limit on the length of the attachments.

Please send two paper copies of your comments to Docket Management, submit them electronically, fax them, or use the Federal eRulemaking Portal. The mailing address is U.S. Department of Transportation Docket Management, Room PL-401, 400 Seventh Street, SW., Washington, DC 20590. If you submit your comments electronically, log onto the Dockets Management System Web site at http://dms.dot.gov and click on “Help & Information” or “Help/Info” to obtain instructions. The fax number is 1-202-493-2251. To use the Federal eRulemaking Portal, go to http://www.regulations.gov and follow the online instructions for submitting comments.

We also request, but do not require you to send a copy to Charles J. Kahane, Chief, Evaluation Division, NPO-321, National Highway Traffic Safety Administration, Room 5208, 400 Seventh Street, SW., Washington, DC 20590 (alternatively, fax to (202) 366-2559 or e-mail to ckahane@nhtsa.dot.gov). He can check if your comments have been received at the Docket and he can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “search.”

C. On the next page (http://dms.dot.gov/search/) type in the four-digit Docket number shown at the beginning of this Notice (16932). Click on “search.”

D. On the next page, which contains Docket summary information for the Docket you selected, click on the desired comments. You may also download the comments.

Authority: 49 U.S.C. 30111, 30168; delegation of authority at 49 CFR 1.50 and 501.8.

Noble N. Bowie,
Associate Administrator for Planning, Evaluation and Budget.

[FR Doc. E4-114 Filed 01-26-04;8:45 am]

BILLING CODE 4910-59-P